DEPARTMENT OF THE INTERIOR

National Park Service

Notice of Inventory Completion: Department of Anthropology, University of Massachusetts, Amherst, MA

AGENCY: National Park Service, Interior.

ACTION: Notice.

Notice is here given in accordance with the Native American Graves Protection and Repatriation Act (NAGPRA), 25 U.S.C. 3003, of the completion of an inventory of human remains and associated funerary objects in the possession and control of the Department of Anthropology, University of Massachusetts, Amherst, MA. The human remains and associated funerary objects are believed to have been removed from a Maine coastal shell midden either east of the Penobscot Bay and/or possibly Bailey Island, Casco Bay, Cumberland County, ME.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains and an inventory of the associated funerary objects were made by the Department of Anthropology, University of Massachusetts, Amherst professional staff in consultation with Amherst College, Amherst, MA, and Smith College, Northampton, MA, and with the Wabanaki Intertribal Repatriation Committee, a non-Federally recognized Indian group, representing the Aroostook Band of Micmac Indians of Maine, Houlton Band of Maliseet Indians of Maine, Passamaquoddy Tribe of Maine, and Penobscot Tribe of Maine.

At an unknown date, human remains representing a minimum of four individuals are believed to have been removed from an unknown shell midden site in Maine. Sometime in the 1970s, the human remains and associated funerary objects became part of the collection of the Department of Anthropology, University of Massachusetts, Amherst, and became known as the Bailey Collection. No known individuals were identified. The 128 associated funerary objects are 3 felsite chunks; 22 carved bone pieces; 6 beaver teeth fragments; 9 carnivore and herbivore teeth fragments; 1 bone point; 9 animal bone fragments; 1 mammal claw; 9 bone harpoon tips; 2 axes, 4 blanks; 1 possible pestle; 1 axe-like lithic; 1 cobble; 8 ground and polished stone tools; 43 bifaces; 4 projectile points; and 4 pottery sherds.

The collection records do not provide a clear provenience for these materials, though they are suggestive that the collection was excavated by people during the early 20th century. It is unknown if the name “Bailey” refers to a collector's name, site name, or geographic placename. Additional research does not establish an association with the archeologist John H. Bailey who worked in Vermont in the 1930s, or with the work of archeologists Alfred Bailey or L.W. Bailey. The collection may be from a site on Bailey Island in Casco Bay, ME, although there is no clear association to any known archeological excavations at this location. Documents in the collections records suggest that there might be a connection to the work of Professor Frederic Loomis of Amherst College, who conducted fieldwork at shell midden sites in Maine during the 1910s to 1930s. In 1914, Loomis donated some material collected from shell midden sites at Boothbay, Biggers Island, Winter Harbor, Sorrento, and Slave Islands to Professor Harris Hawthorne Wilder of Smith College, who was also excavating in Maine at the time. Sometime after 1966, shell midden materials from these sites were transferred from Smith College to the Department of Anthropology, University of Massachusetts, Amherst. Although the records from Amherst College and Smith College do not specifically mention the “Bailey” site, it is possible that the Bailey collection was part of this transfer.

In 1990, University of Massachusetts Professor Dena Dincauze, in consultation with Dr. Bruce Bourque of the University of Maine, concluded that the artifacts in the Bailey Collection are consistent with those recovered from coastal shell middens east of the Penobscot Bay, ME. During Bourque's assessment of the barbed harpoon forms, corner-notched Late Period bifaces, pebble adze and other ground stone pieces, and raw materials such as Kineo felsites and “trap” (possibly hornfels), he noted calcium carbonate deposits on some of the artifacts, which is typical of materials recovered from leaching shell middens. According to Dincauze, the styles of the artifacts indicate a date to the “Ceramic Period” of Maine, especially the last 1,500 years before European contact, though there are some artifacts (e.g., a large biface) that are similar to Middle Woodland (2000-1600 BP) artifacts. Bourque, Dincauze, and Dr. Arthur Spiess, of the Maine Historic Preservation Commission, have suggested that the style of the bone comb top in the collection resembles Beothuk or Inuit styles more characteristic of Newfoundland than Maine. However, since most of the materials are from the Ceramic Period, the officials of the Department of Anthropology, University of Massachusetts, Amherst, reasonably believe they are from the same type of burials. In 2008, a tribal representative of the Penobscot Tribe of Maine, after reviewing the materials, concurred with Dincauze and Bourque and found the artifact assemblage to be consistent with possible associated funerary objects from Ceramic Period burials in Maine.

The Aroostook Band of Micmac Indians of Maine, Houlton Band of Maliseet Indians of Maine, Passamaquoddy Tribe of Maine, and Penobscot Tribe of Maine, represented by the Wabanaki Intertribal Repatriation Committee, a non-Federally recognized Indian group, are widely recognized as having a shared cultural relationship with the people of the Ceramic Period of Maine (2,000 B.P. to European contact).

Officials of the Department of Anthropology, University of Massachusetts, Amherst have determined that pursuant to 25 U.S.C. 3001 (9-10), the human remains described above represent the physical remains of four individuals of Native American ancestry. Officials of the Department of Anthropology, University of Massachusetts, Amherst also have determined that, pursuant to 25 U.S.C. 3001 (3)(A), the 128 objects described above are reasonably believed to have been placed with or near individual human remains at the time of death or later as part of the death rite or ceremony. Lastly, officials of the Department of Anthropology, University of Massachusetts, Amherst have determined that, pursuant to 25 U.S.C. 3001 (2), there is a relationship of shared group identity that can reasonably be traced between the Native American human remains and the associated funerary objects and the Aroostook Band of Micmac Indians of Maine, Houlton Band of Maliseet Indians of Maine, Passamaquoddy Tribe of Maine, and Penobscot Tribe of Maine, represented by the Wabanaki Intertribal Repatriation Committee, a non-Federally recognized Indian group.

Representatives of any other Indian tribe that believes itself to be culturally affiliated with the human remains and associated funerary objects should contact Robert Paynter, Repatriation Committee Chair, Department of Anthropology, University of Massachusetts, 201 Machmer Hall, 240 Hicks Way, Amherst, MA 01003, telephone (413)545-2221, before April 24, 2009. Repatriation of the human remains and associated funerary objects to the Aroostook Band of Micmac Indians of Maine, Houlton Band of Maliseet Indians of Maine, Passamaquoddy Tribe of Maine, and Penobscot Tribe of Maine, represented by the Wabanaki Intertribal Repatriation Committee, a non-Federally recognized Indian group, may proceed after that date if no additional claimants come forward.

The Department of Anthropology, University of Massachusetts, Amherst is responsible for notifying Amherst College and Smith College, and the Aroostook Band of Micmac Indians of Maine, Houlton Band of Maliseet Indians of Maine, Passamaquoddy Tribe of Maine, Penobscot Tribe of Maine, and Wabanaki Intertribal Repatriation Committee, a non-Federally recognized Indian group, that this notice has been published.

Dated: March 12, 2009
Sherry Hutt,
Manager, National NAGPRA Program.

[FR Doc. E9-6508 Filed 3-24-09; 8:45 am]

BILLING CODE 4312-50-S